DEPARTMENT OF COMMERCE

Foreign-Trade Zones Board

[Docket 21-2004]

Foreign-Trade Zone 70—Detroit, MI; Application for Expansion

An application has been submitted to the Foreign-Trade Zones Board (the Board) by the Greater Detroit Foreign-Trade Zone, grantee of FTZ 70, requesting authority to expand its zone in the Detroit, Michigan, area. The application was submitted pursuant to the provisions of the Foreign-Trade Zones Act, as amended (19 U.S.C. 81a-81u), and the regulations of the Board (15 CFR part 400). It was formally filed on May 25, 2004.

FTZ 70 was approved on July 21, 1981 (Board Order 176, 46 FR 38941, 7/30/81) and expanded on April 15, 1985 (Board Order 299, 50 FR 16119, 4/24/85); November 27, 1989 (Board Order 453, 54 FR 50258, 12/5/89); April 20, 1990 (Board Order 471, 55 FR 17775, 4/27/90); February 20, 1996 (Board Order 802, 61 FR 7237, 2/27/96); August 26, 1996 (Board Order 843, 61 FR 46763, 9/5/96); and April 5, 2001 (Board Order 1162, 66 FR 19423, 4/16/01). The general-purpose zone project currently consists of 17 sites (some 300 acres) for warehousing/storage operations in the Detroit, Michigan area.

The applicant is now requesting authority to expand the general-purpose zone to include an additional site, Proposed Site 18 (52 acres, 744,570 sq. ft. warehousing space)—7111 Crabb Road, Temperance, Michigan, Bedford Township (Monroe County). The site is owned by Acquiport-Temperance LLC, which leases the site to TNT Logistics, which has a long-term contract to provide warehousing and distribution services for Michelin North America. The site will be used for warehousing/ distribution activities, initially by Michelin North America, currently the major occupant of the site, with space available for other interested companies in the future. No specific manufacturing requests are being made at this time. Such requests would be made to the Board on a case-by-case basis.

In accordance with the Board's regulations, a member of the FTZ staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is July 16, 2004. Rebuttal comments in response to material submitted during the foregoing period may be submitted during the subsequent 15-day period (to June 16, 2004).

A copy of the request will be available for public inspection at the Office of the Foreign-Trade Zones Board at the first address above and at the U.S. Department of Commerce, Export Assistance Center, 211 West Fort Street, Suite 2220, Detroit, Michigan.

Dated: May 25, 2004.
Dennis Puccinelli,
Executive Secretary.

[FR Doc. 04-12289 Filed 5-28-04; 8:45 am]

BILLING CODE 3510-DS-P